DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 72 FR 4514, dated January 31, 2007) is amended to reflect the Order of Succession for the Centers for Disease Control and Prevention.

Section C-C, Order of Succession:

Delete in its entirety Section C-C, Order of Succession, and insert the following:

During the absence or disability of the Director, Centers for Disease Control and Prevention (CDC), or in the event of a vacancy in that office, the first official listed below who is available shall act as Director, except that during a planned period of absence, the Director may specify a different order of succession:

1. Chief Operating Officer, CDC.

2. Director, Coordinating Center for Infectious Diseases.

3. Director, Coordinating Center for Environmental Health and Injury Prevention.

4. Director, Office of Workforce and Career Development.

Dated: March 16, 2007.
William H. Gimson,
Chief Operating Officer, Centers for Disease Control and Prevention (CDC).

[FR Doc. 07-1486 Filed 3-27-07; 8:45 am]

BILLING CODE 4160-18-M